DEPARTMENT OF DEFENSE

Office of the Secretary

[Docket ID: DoD-2012-OS-0112]

Privacy Act of 1974; System of Records

AGENCY: Office of the Secretary of Defense, DoD.

ACTION: Notice to alter a system of records.

SUMMARY: The Office of the Secretary of Defense proposes to alter a system of records in its inventory of record systems subject to the Privacy Act of 1974 (5 U.S.C. 552a), as amended.

DATES: This proposed action will be effective on October 15, 2012 unless comments are received which result in a contrary determination. Comments will be accepted on or before October 15, 2012.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571)372-0461.

SUPPLEMENTARY INFORMATION: The Office of the Secretary of Defense notices for systems of records subject to the Privacy Act of 1974 (5 U.S.C. 552a), as amended, have been published in the Federal Register and are available from the address in FOR FURTHER INFORMATION CONTACT. The proposed system report, as required by U.S.C. 552a(r) of the Privacy Act of 1974, as amended, was submitted on August 28, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 10, 2012.
Aaron Siegel,
Alternate OSD Federal Register Liaison Officer, Department of Defense.

DHA 11

System name:

Defense Medical Personnel Preparedness Database (December 12, 2005, 70 FR 73454).

Changes:

* * * * *

System name:

Delete entry and replace with “Defense Medical Human Resources System—internet (DMHRSi).”

System location:

Delete entry and replace with “Department of Defense, TRICARE Management Activity, 7700 Arlington Boulevard, Falls Church, VA 22042-5101.”

Categories of individuals covered by the system:

Delete entry and replace with “Active duty Military, Reserve, National Guard, and Department of Defense (DoD) civilian employees who are part of the Military Health System (MHS) or assigned to or employed by the TRICARE Management Activity (TMA), to include non-appropriated fund employees, foreign nationals, DoD contractors, and volunteers.”

Categories of records in the system:

Delete entry and replace with “Name, date of birth, Social Security Number (SSN) and/or DoD Identification (ID) Number, National Provider Identifier (NPI), gender, place of birth, citizenship; home address, home telephone number, business email address, military rank, medical credentials including class names and class dates, specialty, licensure, educational background; immunization history, and medical readiness training.”

Authority for maintenance of the system:

Delete entry and replace with “10 U.S.C. 136, Under Secretary of Defense for Personnel and Readiness; DoDD 5136.01, Assistant Secretary of Defense for Health Affairs (ASD(HA)); DoDI 1322.24, Military Medical Readiness Skills Training; DoD 6013.13-M, Medical Expense Performance Reporting System (MEPRS) for Fixed, Medical/Dental Treatment Facilities; DoD 5136.1-P, Medical Readiness Strategic Plan (MRSP); E.O. 12656, Assignment of Emergency Preparedness Responsibilities; and E.O. 9397 (SSN), as amended.”

Purpose(s):

Delete entry and replace with “To consolidate all of the human resources functions, including readiness, manpower, labor cost assignment, education, and training, for personnel across the DoD medical enterprise, thereby providing a single database source of instant query/access for all personnel types and the readiness posture of all DoD medical personnel. This system of records permits ready access to essential manpower, personnel, labor cost assignment, education and training, and personnel readiness information across the DoD medical enterprise.”

* * * * *

Storage:

Delete entry and replace with “Electronic storage media.”

Retrievability:

Delete entry and replace with “Individual's name and SSN and/or DoD ID Number.”

Safeguards:

Delete entry and replace with “Electronic media, data and/or electronic records are maintained in a secure, limited access, or monitored area. Physical entry is restricted by the use of locks, passwords which are changed periodically, and administrative procedures. The system provides a two-factor authentication, using a Common Access Card and Personal Identification Number. Access to personally identifiable information in this system of records is restricted to those who require the data in the performance of their official duties, and have received proper training relative to the Privacy Act of 1974, as amended, and DoD Information Assurance Regulations.”

Retention and disposal:

Delete entry and replace with “Disposition pending (until the National Archives and Records Administration approves retention and disposal schedule, records will be treated as permanent).”

System manager(s) and address:

Delete entry and replace with “Program Manager, Defense Health Services System, 7700 Arlington Boulevard, Falls Church, VA 22042-5101.”

Notification procedure:

Delete entry and replace with “Individuals seeking to determine whether information about themselves is contained within this system of records should address written inquiries to the TRICARE Management Activity, Department of Defense, ATTN: TMA Privacy Officer, TMA Privacy and Civil Liberties Office, 7700 Arlington Boulevard, Suite 5101, Falls Church, VA 22042-5101.

Requests should contain the individual's full name and SSN and/or DoD ID Number.”

Record access procedures:

Delete entry and replace with “Individuals seeking access to records about themselves contained within this system of records should address written inquiries to the TRICARE Management Activity, ATTN: Freedom of Information Act Requester Service Center, 16401 Centretech Parkway, Aurora, CO 80011-9066.

“Requests should contain the individual's full name and SSN and/or DoD ID Number.”

Contesting record procedures:

Delete entry and replace with “The OSD rules for accessing records, for contesting contents and appealing initial agency determinations are contained in OSD Administrative Instruction 81 (as amended, November 2009); 32 CFR part 311; or may be obtained from the system manager.”

Record source categories:

Delete entry and replace with “DoD pay and personnel systems, DoD medical facilities personnel, DoD supervisors, and DoD operational records.”

* * * * *

[FR Doc. 2012-22579 Filed 9-12-12; 8:45 am]

BILLING CODE 5001-06-P